DEPARTMENT OF AGRICULTURE

Commodity Credit Corporation

Estimate of Peanuts and Peanut Products Available for Donation

AGENCY: Commodity Credit Corporation and Farm Service Agency, USDA.

ACTION: Notice.

SUMMARY: On behalf of the Commodity Credit Corporation (CCC), the Farm Service Agency estimates that during fiscal year 2016, peanuts and peanut products in CCC inventory may be made available for programming under section 416 of the Agricultural Act of 1949, as amended, in such quantities as may be determined appropriate for direct human feeding in a manner consistent with United States obligations under its international trade agreements.

FOR FURTHER INFORMATION CONTACT: Tiffany Arthur; telephone (202) 720-4284. Persons with disabilities who require alternative means for communications should contact the USDA Target Center at (202) 720-2600 (voice).

Authority: 15 U.S.C. 714b and 7 U.S.C. 1431(b)(8)(B).

Val Dolcini,
Administrator, Farm Service Agency, and Executive Vice President, Commodity Credit Corporation.

[FR Doc. 2015-27698 Filed 10-29-15; 8:45 am]

BILLING CODE 3410-05-P